DEPARTMENT OF ENERGY

Revision of a Currently Approved Information Collection for the State Energy Program

AGENCY: U.S. Department of Energy.

ACTION: Submission for Office of Management and Budget (OMB) review; public comment request.

SUMMARY: The Department of Energy (DOE) invites public comment on a revision of a currently approved collection of information that DOE is developing for submission to the Office of Management and Budget (OMB) pursuant to the Paperwork Reduction Act of 1995. The information collection requests a revision and three-year extension of its State Energy Program, OMB Control Number 1910-5126.

The proposed action will continue the collection of information on the status of grantee activities, expenditures, and results, to ensure that program funds are being used appropriately, effectively and expeditiously.

Comments are invited on: (a) Whether the revision of the currently approved collection of information is necessary for the proper performance of the functions of the agency, including whether the information shall have practical utility; (b) the accuracy of the agency's estimate of the burden pertaining to the approved collection of information, including the validity of the methodology and assumptions used; (c) ways to further enhance the quality, utility, and clarity of the information being collected; and (d) ways to further minimize the burden regarding the collection of information on respondents, including through the use of automated collection techniques or other forms of information technology.

DATES: Comments regarding this revision to an approved information collection must be received on or before February 21, 2017. If you anticipate difficulty in submitting comments within that period, contact the person listed in ADDRESSES as soon as possible.

ADDRESSES: Written comments may be sent to

Sallie Glaize, EE-5W, U.S. Department of Energy, 1000 Independence Ave. SW., Washington, DC 20585, Email: Sallie.Glaize@ee.doe.gov.

FOR FURTHER INFORMATION CONTACT: Requests for additional information or copies of the information collection instrument and instructions should be directed to:

Gregory Davoren, U.S. Department of Energy, 1000 Independence Ave. SW., Washington, DC 20585, Phone: (202) 287-1706, Fax: (412) 386-5835, Email: Gregory.Davoren@ee.doe.gov.

Additional information and reporting guidance concerning the State Energy Program (SEP) is available for review at the following Web site: http://www1.eere.energy.gov/wip/sep.html.

SUPPLEMENTARY INFORMATION: This information collection request contains: (1) OMB No. 1910-5126; (2) Information Collection Request Title: State Energy Program; (3) Type of Review: Revision of a Currently Approved Information Collection; (4) Purpose: To collect information on the status of grantee activities, expenditures, and results, to ensure that program funds are being used appropriately, effectively and expeditiously; (5) Annual Estimated Number of Respondents: 56; (6) Annual Estimated Number of Total Responses: 224; (7) Annual Estimated Number of Burden Hours: 7,600; (8) Annual Estimated Reporting and Recordkeeping Cost Burden: $304,000.

Statutory Authority: Title V, Subtitle E of the Energy Independence and Security Act (EISA), Public Law 110-140 as amended (42 U.S.C. 17151 et seq.).

Issued in Washington, DC, December 14, 2016.
Gregory Davoren,
Lead Energy Project Specialist, Weatherization and Intergovernmental Program, Office of Energy Efficiency and Renewable Energy.

[FR Doc. 2016-30997 Filed 12-22-16; 8:45 am]

BILLING CODE 6450-01-P